DEPARTMENT OF THE INTERIOR

Geological Survey

[GX19BD009AV0100; OMB Control Number 1028-NEW]

Agency Information Collection Activities; Cooperative Research Units (CRU)

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before August 23, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-NEW in the subject line of your comments.

FOR FURTHER INFORMATION CONTACT: To request additional information about this ICR, contact Melissa Thode, by email at mthode@usgs.gov, or by telephone at (703) 648-4265.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: CRU Cooperating Universities submit applications for research work orders via Grants.gov. The Statutory Authority used is the Cooperative Research and Training Units Act (16 U.S.C. 753a-753b), Public Law 86-686, Sec. 1, Sept. 2, 1960, 74 Stat. 733, as amended by the Fish and Wildlife Improvement Act of 1978 (16 U.S.C. 742a) Public Law 95-616, Sec. 2, Nov. 8, 1978, 92 Stat. 3110. Applications consist of project proposals, budgets and SF-424 forms. Information submitted includes project titles, schedules, scope of work, contact information (names, emails, addresses, position titles, telephone), and detailed budget breakdowns (salaries includes names, positions, rate of compensation) per Office of Acquisition requirements.

Title of Collection: Cooperative Research Units

OMB Control Number: 1028-New.

Form Number: NA.

Type of Review: New.

Respondents/Affected Public: CRU Cooperating Universities.

Total Estimated Number of Annual Respondents: 40.

Total Estimated Number of Annual Responses: 190.

Estimated Completion Time per Response: 40 hours.

Total Estimated Number of Annual Burden Hours: 7,600 hours.

Respondent's Obligation: Required to submit progress reports to retain benefit.

Frequency of Collection: Varies with research work order but at a minimum is responsible for initial application, progress report and final report.

Total Estimated Annual Non-hour Burden Cost: None.

An agency may not conduct or sponsor and a person is not required to respond to a collection of information unless it displays a currently valid OMB control number.

The authorities for this action are the Paperwork Reduction Act of 1995 (44 U.S.C. 3501, et seq.).

John Thompson,
Deputy Chief, CRU.

[FR Doc. 2019-13296 Filed 6-21-19; 8:45 am]

BILLING CODE 4338-11-P